DEPARTMENT OF TRANSPORTATION

Federal Highway Administration

Supplemental Draft Environmental Impact Statement: Northwest I-75/I-575 Corridor, Cobb and Cherokee Counties, GA (Atlanta Metropolitan Area)

AGENCY: Federal Highway Administration (FHWA), USDOT.

ACTION: Notice of intent.

SUMMARY: The FHWA is issuing this notice to advise the interested parties (public, agencies and tribal governments) that a supplemental draft environmental impact statement (SDEIS) will be prepared for proposed highway improvements on Interstate 75 and Interstate 575 (I-75/I-575) in Cobb and Cherokee Counties, Georgia. The length of the proposed project is 30.70 miles.

FOR FURTHER INFORMATION CONTACT: Mr. Rodney Barry, Federal Highway Administration, 61 Forsyth Street, Suite 17T100, Atlanta, Georgia, Telephone: 404-562-3630, E-mail: rodney.barry@fhwa.dot.gov.

SUPPLEMENTARY INFORMATION: The FHWA, in cooperation with Georgia Department of Transportation (GDOT) will prepare a SDEIS to consider environmental impacts of proposed transportation improvements to I-75 and I-575 in the Atlanta metropolitan area. These improvements are collectively referred to as the Northwest Corridor project and are located within the project area, which extends northwesterly along I-75 in Cobb County from I-285 through Marietta, Kennesaw and into Acworth. Within the project area, I-575 extends from I-75 northeasterly into Cherokee County.

A notice of intent announcing the preparation of an environmental impact statement was published in the Federal Register on March 9, 2004. FHWA and GDOT issued the Alternative Analysis/Draft Environmental Impact Statement (AA/DEIS) in May 2007.

The AA/DEIS evaluated four build alternatives, three design options and two operational options. The build alternatives included the high-occupancy vehicles (HOV) and truck only lanes (TOL) Alternative, the HOV/TOL/Transportation System Management (TSM) Alternative, the HOV/TOL/Bus Rapid Transit (BRT) Alternative, and the HOV/TOL/Reduced BRT Alternative. The SDEIS will evaluate a proposal that would consist of a two-lane reversible managed alternative and improvements to operations will be analyzed in the SDEIS.

An agency meeting will be held during the development of the SDEIS. Numerous opportunities for public input will be provided. The Northwest Corridor project Web site will be updated to include the SDEIS and there will be outreach to local and state-wide media. Letters describing the new alternative and soliciting comments will be sent to the public, private entities, Federal, State and local agencies. Formal public hearings will take place along the corridor. Public notice will be given announcing the time and place of the public hearings. The SDEIS will be available for public and agency review prior to the public hearings. Comments and questions should be directed to FHWA at the addresses provided above.

(Catalog of Federal Domestic Assistance Program Number 20.205, Highway Planning and Construction. The regulations implementing Executive Order 12372 regarding intergovernmental consultation on Federal programs and activities apply to this program. Georgia's approved clearinghouse review procedures apply to this program.)

Issued on December 17, 2009.
William Farr,
Assistant Division Administrator, Atlanta, Georgia.

[FR Doc. E9-30561 Filed 12-23-09; 8:45 am]

BILLING CODE 4910-22-P